POSTAL SERVICE

Privacy Act of 1974; System of Records

AGENCY: Postal Service.

ACTION: Notice of modified systems of records.

SUMMARY: The United States Postal Service (USPS) is proposing to revise one General Privacy Act System of Records (SOR). The proposed modifications will provide notice of, and additional transparency into the collection and use of records for the implementation of an electronic centralized USPS Tort Claims presentment portal. The Postal Service is focused on continuous improvement efforts that increase effectiveness and efficiency, such as enhancements to functionality and processing capabilities that support ongoing administrative and compliance activities.

DATES: These revisions will become effective without further notice on November 17, 2025, unless responses to comments received on or before that date result in a contrary determination.

ADDRESSES: Comments may be submitted via email to the Privacy and Records Management Office, United States Postal Service Headquarters (uspsprivacyfedregnotice@usps.gov). To facilitate public inspection, arrangements to view copies of any written comments received will be made upon request.

FOR FURTHER INFORMATION CONTACT: Janine Castorina, Chief Privacy and Records Management Officer, Privacy and Records Management Office, at 202-268-2000 or uspsprivacyfedregnotice@usps.gov.

SUPPLEMENTARY INFORMATION: This notice is in accordance with the Privacy Act requirement that agencies publish their systems of records in the Federal Register when there is a revision, change, or addition, or when the agency establishes a new system of records. The Postal Service has determined General Privacy Act System of Records, USPS SOR 600.100 General Legal Records, should be revised to provide notice and promote transparency into the collection and use of records for the implementation of an electronic centralized USPS Tort Claims presentment portal, designed to enhance ongoing administrative and compliance activities that meet the requirements of the Federal Tort Claims Act.

I. Background

The United States Postal Service (USPS) is an independent federal establishment of the executive branch and as such, the Federal Torts Claims Act (FTCA) is applicable to USPS under 39 U.S.C. 409(c). The USPS Law Department, led by the General Counsel, effectively functions as a large law firm with an enormously varied practice. Attorneys for the Postal Service practice in many areas, including: labor and employment, commercial, torts, economic regulation, finance, contracts, intellectual property, real estate, legislation, administrative, international, information, government ethics, and consumer protection law.

II. Rationale for Changes to USPS Privacy Act Systems of Records

The Postal Service continuously seeks to improve processes and procedures that enhance functionality, improve efficiency and increase ease of use for the public. The USPS Law Department is sponsoring an initiative to replace a decentralized, paper-based Tort Claims filing process with a centralized electronic Tort Claims portal. The Tort Claims portal will provide secure access to individuals, attorneys, insurance companies, businesses, claimants, and claimant's representatives who are presenting tort claims and uploading supporting documentation. Secure access is ensured by using a login account and password assigned to registered users that have been properly authenticated.

The electronic Tort Claims presentment Portal will be designed to be easily accessible; to provide the Standard Form 95, Claim for Damage, Injury or Death, and instructions on presenting a tort claim; and to provide confirmation that the submission has been successfully uploaded to the portal. The Portal will also be designed to securely receive personally identifiable information necessary to support tort claims, such as medical records; medical bills; wage loss information; etc. to allow for greater efficiency in real time claim presentment and supporting documentation.

III. Description of the Modified System of Records

The Postal Service is proposing modifications to USPS SOR 600.100 General Legal Records as indicated in the summary of changes listed below:

• Updated System Location with updated name.

• Added new Purpose number 2, amended the original Purpose number 2 and split it into Purpose numbers 3 and 4, then renumbered the remaining Purpose as number 5.

• Added new Category of Individuals number 2 and renumbered subsequent Categories of Individuals.

• Added new Category of Records number 2.

• Updated Record Source Categories.

Pursuant to 5 U.S.C. 552a(e)(11), interested persons are invited to submit written data, views, or arguments on this proposal. A report of the proposed revisions has been sent to Congress and to the Office of Management and Budget (OMB) for their evaluations. The Postal Service does not expect this amended system of records to have any adverse effect on individual privacy rights. USPS SOR 600.100 is provided below in its entirety.

SYSTEM NAME AND NUMBER:

USPS 600.100 General Legal Records.

SECURITY CLASSIFICATION:

None.

SYSTEM LOCATION:

Law Department, USPS Headquarters and field offices; area and district facilities; Integrated Business Solutions Services Centers; National Tort Center; and Post Offices.

SYSTEM MANAGER(S) AND ADDRESS:

General Counsel and Executive Vice President, United States Postal Service, 475 L'Enfant Plaza SW, Washington, DC 20260.

AUTHORITY FOR MAINTENANCE OF THE SYSTEM:

39 U.S.C. 401, 409, 1206, and 1208.

PURPOSE(S) OF THE SYSTEM:

1. To provide legal advice and representation in NLRB cases, labor or employment litigation, and miscellaneous civil actions and litigation.

2. To facilitate the electronic presentment of Tort Claims and supporting documentation through a secure centralized claims presentment portal system.

3. To adjudicate, settle, or defend against tort claims made under the Federal Tort Claims Act;

4. To support program management by accident prevention and safety officers; and to provide pertinent information regarding safety, accidents, and claims to equipment providers and insurers.

5. To protect USPS intellectual property and patents.

CATEGORIES OF INDIVIDUALS COVERED BY THE SYSTEM:

1. Current or former USPS employees who are parties to National Labor Relations Board (NLRB) cases, or on whose behalf NLRB charges are filed by a collective bargaining representative, and other individuals involved in labor or employment litigation.

2. Claimants and claimant's representatives who are presenting tort claims, including individuals, attorneys, insurance companies, and businesses who claim to be involved in accidents related to USPS operations and who seek money damages under the Federal Tort Claims Act (FTCA).

3. Individuals investigated for possible infringement of USPS intellectual property rights, including inventors seeking patents for devices.

4. Individuals involved in other formal administrative proceedings or litigation in which USPS is a party or has an interest in which information or testimony is sought.

CATEGORIES OF RECORDS IN THE SYSTEM:

1. Records related to proceedings, including individuals' names, Social Security Numbers, postal assignment information, work contact information, finance number(s), duty location, pay location, assigned case or docket numbers, and other details related to the nature of the litigants and litigation subject matter.

2. Records pertaining to Torts Claims including but not limited to the Standard Form 95, Claim for Damage, Injury, or Death: claimant's name, address, claimant's representative name, type of employment, date of birth, marital status, date and day of accident, basis of claim, property damage: name and address of owner (if other than claimant), description of property, nature and extent of the damage and the location of where the property may be inspected; personal injury/wrongful death: nature and extent of each injury or cause of death, if other than claimant, name of the injured person or decedent; witnesses: name and address; amount of claim: property damage, personal injury, wrongful death, total; signature of claimant, phone number of claimant signing form, date of signature; insurance coverage: insurance company name, address, insurance policy number, coverage or deductible with deductible amount, action taken or proposed to be taken by insurer if claim filed; tort claims presented via letter, medical records, medical bills, Explanation of Benefits Forms, medical bill summaries, medical records summaries, lost wage information, tax returns, financial records, photographs, life care plans, economist reports, medical expert reports, business records, property repair estimates, total loss of property documentation, valuation reports, police reports, video footage, statements, birth certificates, death certificates, estate documentation, titles, deeds, license and registration information, and insurance policy information including declaration pages.

RECORD SOURCE CATEGORIES:

Subject individuals; their counsel or other representative; For FTCA, individuals, their counsel or other representative, insurance companies, corporate entities and businesses; external authorities such as the NLRB, Equal Employment Opportunity Commission, or Merit System Protection Board; customers; police; postal inspectors; witnesses; American Insurance Association Index reports; and other systems of records.

ROUTINE USES OF RECORDS MAINTAINED IN THE SYSTEM, INCLUDING CATEGORIES OF USERS AND PURPOSES OF SUCH USES:

Standard routine uses 1. through 9. apply. In addition:

a. Tort claims records may be disclosed to members of the American Insurance Association Index System; to insurance companies that have issued policies under which the United States is or may be an (additional) insured; to equipment manufacturers, suppliers, and their insurers for claims considerations and possible improvement of equipment and supplies; and in response to a subpoena or other appropriate court order.

b. A record may be transferred and information from it disclosed to the Patent and Trademark Office or the Library of Congress when relevant in any proceeding involving the registration of Postal Service trademarks or issuance of patents.

POLICIES AND PRACTICES FOR STORAGE OF RECORDS:

Automated database, computer storage media, and paper.

POLICIES AND PRACTICES FOR RETRIEVAL OF RECORDS:

By name of subject individual, litigant, claimant, charging party, or individual on whose behalf a charge has been filed; case number, docket number, or topic title.

POLICIES AND PRACTICES FOR RETENTION AND DISPOSTAL OF RECORDS:

1. Labor litigation records are retained 5 years.

2. Tort claim files are retained 7 years after final adjudication or other closure. Tort litigation files are retained 5 years after closure.

3. Records of investigations of possible infringement of USPS intellectual property rights are retained 25 years after closure of the case.

4. Records of miscellaneous civil actions and administrative proceedings are retained 10 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods.

The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures and Record Access Procedures.

NOTIFICATION PROCEDURES:

Individuals wanting to know if information about them is maintained in this system of records must address inquiries to the system manager. Inquiries must include full name of litigant, charging party, or individual on whose behalf a charge has been filed, case number or docket number, if known, and the approximate date the action was instituted.

EXEMPTIONS PROMULGATED FOR THE SYSTEM:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY:

October 24, 2011, 76 FR 65756.

Matthew W. Tievsky,
Attorney, Ethics and Legal Compliance.

[FR Doc. 2025-19582 Filed 10-16-25; 8:45 am]

BILLING CODE 7710-12-P